DEPARTMENT OF TRANSPORTATION

Federal Aviation Administration

14 CFR Part 71

[Docket No. FAA-2006-24467; Airspace Docket No. 06-ANM-2]

Revision of Class E Airspace; Eagle, CO

AGENCY: Federal Aviation Administration (FAA), DOT.

ACTION: Final rule.

SUMMARY: This final rule will revise the Class E airspace at Eagle, CO. Additional controlled airspace is necessary for the safety of Instrument Flight Rules (IFR) aircraft executing a new Instrument Landing System or Localizer Distance Measuring Equipment (ILS or LOC DME) Standard Instrument Approach Procedures (SIAP) at Eagle County Regional Airport.

DATES: Effective Date: 0901 UTC, November 23, 2006.

FOR FURTHER INFORMATION CONTACT: Ed Haeseker, Federal Aviation Administration, Western Service Area Office, 1601 Lind Avenue SW., Renton, WA, 98055-4056; telephone (425) 227-2527.

SUPPLEMENTARY INFORMATION:

History

On May 4, 2006, the FAA published in the Federal Register a notice of proposed rulemaking to revise Class E airspace at Eagle, CO (71 FR 26284). This action would provide additional controlled airspace for the safety of IFR aircraft executing a new published ILS or LOC DME SIAP at Eagle County Regional Airport. Interested parties were invited to participate in this rulemaking effort by submitting written comments on the proposal to the FAA. No comments were received.

Class E airspace designations are published in paragraph 6002 and 6005 of FAA Order 7400.9N, dated September 1, 2005, and effective September 15, 2005, which is incorporated by reference in 14 CFR 71.1. The Class E airspace designations listed in this document will be published subsequently in that Order.

The Rule

This action amends Title 14 Code of Federal Regulations (14 CFR) part 71 by revising Class E airspace at Eagle, CO. Additional controlled airspace is necessary for the safety of IFR aircraft executing the new ILS or LOC DME SIAP at Eagle County Regional Airport.

The FAA has determined that this regulation only involves an established body of technical regulations for which frequent and routine amendments are necessary to keep operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9N, Airspace Designations and Reporting Points, dated September 1, 2005, and effective September 15, 2005, is amended as follows:

Paragraph 6002 Class E airspace areas extending upward from the surface of the earth.

* * * * *

ANM CO E2 Eagle, CO [New]

Eagle County Regional Airport, CO

(Lat. 39°38′33″ N., long. 106°55′04″ W.)

That airspace extending upward from the surface of the earth within a 4.4-mile radius of Eagle County Regional Airport, and within 4.0 miles each side of the 079° bearing extending from the 4.4-mile radius to 16.5 miles east of the Eagle County Regional Airport. This Class E airspace area is effective during the specific dates and times established in advance by a Notice to Airmen. The effective date and time will thereafter be continuously published in the Airport/Facility Directory.

* * * * *

Paragraph 6005 Class E airspace areas extending upward from 700 feet or more above the surface of the earth.

* * * * *

ANM CO E5 Eagle, CO [Revised]

Eagle County Regional Airport, CO

(Lat. 39°38′33″ N., long. 106°55′04″ W.)

That airspace extending upward from 700 feet above the surface within a 10-mile radius of Eagle County Regional Airport; within 9.5 miles north and 6 miles south of the 085° bearing from the Eagle County Regional Airport extending from the 10-mile radius area to 22.5 miles northeast of the airport.

* * * * *

Issued in Seattle, Washington, on July 25, 2006.
Clark Desing,
Manager, System Support, Western Service Area.

[FR Doc. E6-13204 Filed 8-10-06; 8:45 am]

BILLING CODE 4910-13-P